ENVIRONMENTAL PROTECTION AGENCY

[FRL-9141-2]

NACEPT Subcommittee on Promoting Environmental Stewardship

AGENCY: Environmental Protection Agency (EPA).

ACTION: Notice of meeting.

SUMMARY: Under the Federal Advisory Committee Act, Public Law 92-463, EPA gives notice of a meeting of the NACEPT Subcommittee on Promoting Environmental Stewardship.

The purpose of the Subcommittee on Promoting Environmental Stewardship (SPES) of the National Advisory Council for Environmental Policy and Technology (NACEPT) is to advise the U.S. Environmental Protection Agency on how to promote environmental stewardship practices that encompass all environmental aspects of an organization in the regulated community and other sectors, as appropriate, in order to enhance human health and environmental protection. A copy of the meeting agenda will be posted at http://epa.gov/ncei/dialogue.htm. This Web site also includes the charge of the SPES, which provides further information about the purpose of the Subcommittee.

Meeting agenda will focus on the Subcommittee's potential stewardship-related recommendations for the Agency.

DATES: The NACEPT Subcommittee on Promoting Environmental Stewardship will hold an open meeting on May 5 (8 a.m.-5 p.m.) and May 6 (8 a.m.-4 p.m.) Eastern. Less than 15 calendar days notice is being given due to unanticipated difficulty in obtaining suitable meeting space.

ADDRESSES: George Washington University Law School, Faculty Conference Center, Fifth Floor, Burns Building, 2000 H Street, NW., Washington DC 20052. The meeting is open to the public, with limited seating on a first-come, first-served basis.

FOR FURTHER INFORMATION CONTACT: Regina Langton, Designated Federal Officer, langton.regina@epa.gov, 202-566-2178, U.S. EPA Office of Policy, Economics, and Innovation (MC1807T), 1200 Pennsylvania Avenue, NW., Washington, DC 20460.

SUPPLEMENTARY INFORMATION: Requests to make brief oral comments or provide written statements to the SPES should be sent to Jennifer Peyser at (202) 965-6215 or jpeyser@RESOLV.org. All requests must be received no later than April 28, 2010.

Meeting Access: For information on access or services for individuals with disabilities, please contact Jennifer Peyser at jpeyser@RESOLV.org. To request accommodation of a disability, please contact Jennifer Peyser at least 10 days prior to the meeting to give EPA as much time as possible to process your request.

Dated: April 16, 2010.
Regina Langton,
Designated Federal Officer.

[FR Doc. 2010-9331 Filed 4-21-10; 8:45 am]

BILLING CODE 6560-50-P